DEPARTMENT OF HEALTH AND HUMAN SERVICES

National Institutes of Health

National Cancer Institute; Amended Notice of Meeting

Notice is hereby given of a change in the meeting of the National Cancer Advisory Board, December 5, 2011, 6:30 p.m. to December 6, 2011, 5 p.m., National Institutes of Health, Building 31, 31 Center Drive, Conference Room 10, Bethesda, MD 20892 which was published in the Federal Register on October 27, 2011, 76 FR 66733.

This Notice is amending the start and end times of the closed session from 3:30 p.m.-5 p.m. to 4:20 p.m.-5:15 p.m. The end time of the meeting has also changed from 5 p.m. to 5:15 p.m. The meeting is partially closed to the public.

Dated: November 29, 2011.
Jennifer S. Spaeth,
Director, Office of Federal Advisory Committee Policy.

[FR Doc. 2011-31149 Filed 12-2-11; 8:45 am]

BILLING CODE 4140-01-P